DEPARTMENT OF DEFENSE

Office of the Secretary

[Docket ID: DoD-2022-OS-0040]

Proposed Collection; Comment Request

AGENCY: Washington Headquarters Services (WHS), Department of Defense (DoD).

ACTION: 60-Day information collection notice.

SUMMARY: In compliance with the Paperwork Reduction Act of 1995, the Washington Headquarters Services/Facilities Services Directorate announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 31, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Washington Headquarters Services/Facilities Services Directorate/Standards and Compliance Division, 1155 Defense Pentagon, Washington, DC 20301, Ariam Kloehn, or call 703-695-3300.

SUPPLEMENTARY INFORMATION: Title; Associated Form; and OMB Number: Washington Headquarters Services Facilities Services Directorate QUICX User Request Form; WHS Form 23; 0704-QUIC.

Needs and Uses: The information collection using the QUICX User Request Form is necessary to create a CAC-enabled account for Government and contractor personnel who are involved in construction projects on the Pentagon Reservation. The QUICX software is used to upload and review construction drawings and submittals. The software is also used to document construction related inspections and to develop and document functional performance tests for the commissioning (i.e., acceptance testing) of new building systems (e.g., heating units, fire alarm systems, lighting systems). Finally, the system is used to generate WHS Building Code permits, which are required for construction projects on the Pentagon Reservation.

Affected Public: Individuals or households.

Annual Burden Hours: 2.

Number of Respondents: 24.

Responses per Respondent: 1.

Annual Responses: 24.

Average Burden per Response: 5 minutes.

Frequency: On occasion.

Dated: March 25, 2022.
Aaron T. Siegel,
Alternate OSD Federal Register Liaison Officer, Department of Defense.

[FR Doc. 2022-06719 Filed 3-29-22; 8:45 am]

BILLING CODE 5001-06-P